ENVIRONMENTAL PROTECTION AGENCY

[FRL-6989-7]

State and Tribal Water Quality Standards: Notice of EPA Approvals and Announcement of EPA Internet Repository

AGENCY: Environmental Protection Agency (EPA).

ACTION: Notice.

SUMMARY: This document contains a listing of State and Tribal submissions of new or revised water quality standards that EPA approved during the period April 1, 1998 through May 30, 2000. Additionally, this notice contains a listing of Indian Tribes that obtained EPA approval to administer a water quality standards program during the same period. It also contains a list of EPA actions to promulgate or remove Federal water quality standards during the same period.

FOR FURTHER INFORMATION CONTACT: Cara Lalley, U.S. Environmental Protection Agency, 1200 Pennsylvania Avenue, Mail Code 4305, Washington, DC 20460; (202) 260-0314; lalley.cara@epa.gov; or see the EPA Regional Water Quality Standards Contacts table in SUPPLEMENTARY INFORMATION to contact your Regional Office.

SUPPLEMENTARY INFORMATION: This document contains a list of State and Tribal water quality standards adoptions and revisions which EPA approved during the period beginning on April 1, 1998 and ending on May 30, 2000. The most recent list was published on October 7, 1998 (63 FR 53911), reflecting State and Tribal submissions of new or revised water quality standards that EPA approved during the period September 1, 1995 through March 31, 1998.

For each EPA approval action, this document provides a reference to the State's or Tribe's regulations that contain the State and Tribal water quality standards, followed by the date of State and Tribal adoption and/or effectiveness, the date of EPA approval, and a brief description of EPA's approval. Additionally, this notice contains a listing of Tribes that have obtained EPA approval to administer a water quality standards program. It also contains a listing of federal water quality standards rulemakings.

This document does not include the following information: (1) The actual text of the water quality standards, (2) any exceptions or conditions that apply to EPA's approval, such as portions of the State and Tribal standards submissions on which EPA did not take action or EPA disapproved, (3) whether approvals were made subject to the results of consultation under the Endangered Species Act, (4) Tribal application materials submitted to EPA for authorization to administer the water quality standards program, or (5) the text of the federal water quality standards rulemakings. The text of a State's or Tribe's standards and copies of the approval letters may be obtained from the State's or Tribe's pollution control agency or the appropriate EPA Regional Office (See “EPA Regional Water Quality Standards Contacts” table). Proprietary publications such as those of the Bureau of National Affairs, Inc. also contain the text of State and Tribal water quality standards.

Due to recent changes in EPA's water quality standards regulations commonly referred to as the Alaska Rule, this will be the last list of water quality standard approvals published as a Federal Register notice. The Alaska Rule (published in the Federal Register on April 27, 2000 and effective as of May 30, 2000) requires that new and revised State and Tribal water quality standards be approved by EPA before they become effective for Clean Water Act purposes. Prior to the Alaska Rule, water quality standards were Clean Water Act-effective once they were adopted by states and authorized tribes, regardless of EPA approval. The new regulations replaced the requirement for an annual publication of EPA approvals (formerly contained at 40 CFR 131.21(d)) with the establishment of a repository of Clean Water Act-effective water quality standards (referred to as the Clean Water Act Water Quality Standards Docket in the Alaska Rule preamble). (See 65 FR 24641.) With this Federal Register notice, EPA is announcing the availability of the Internet version of this repository for all water quality standards effective under the Clean Water Act. The public may view the effective Federal, State, Territory, and Tribal water quality standards at http://www.epa.gov/ost/wqs. This Internet repository will be updated periodically to include new and revised water quality standards approved by EPA in the future.

In addition, EPA Regional offices continue to maintain hard copies of the effective water quality standards of the States and authorized Tribes within their jurisdiction. You may view hard copy versions of the effective water quality standards by contacting the appropriate Regional EPA Office (See “EPA Regional Water Quality Standards Contacts” table). With the availability of the effective State, Territory, and Tribal water quality standards on EPA's web site and through EPA's Regional Offices, the Federal Register notice of EPA approvals is now redundant and unnecessary.

For further information on specific approval actions described in this notice, please contact the corresponding EPA Regional Office:

State | EPA regional office | EPA contact
Connecticut, Maine, Massachusetts, New Hampshire, Rhode Island, and Vermont | EPA Region 1, 1 Congress Street, Suite 1100, CWQ, Boston, MA 02114-2023 | Bill Beckwith, 617-918-1544.
New Jersey, New York, Puerto Rico, Virgin Islands | EPA Region 2, 290 Broadway, New York, NY 10007 | Wayne Jackson, 212-637-3807.
Delaware, District of Columbia, Maryland, Pennsylvania, Virginia, West Virginia | EPA Region 3, 1650 Arch Street, Philadelphia, PA 19103-2029 | Denise Hakowski, 215-814-5726.
Alabama, Florida, Georgia, Kentucky, Mississippi, North Carolina, South Carolina, Tennessee | EPA Region 4, Water Division—15th Floor, Atlanta Federal Center, 61 Forsyth Street SW, Atlanta, GA 30303 | Fritz Wagener, 404-562-9267.
Illinois, Indiana, Michigan, Minnesota, Ohio, Wisconsin | EPA Region 5, Water Division, 77 West Jackson Boulevard, Chicago, IL 60604-3507 | David Pfeifer, 312-353-9024.
Arkansas, Louisiana, New Mexico, Oklahoma, Texas | EPA Region 6, Water Division, 1445 Ross Avenue, First Interstate Bank Tower, Dallas, TX 75202 | Russell Nelson, 214-665-6646.
Iowa, Kansas, Missouri, Nebraska | EPA Region 7, 726 Minnesota Avenue, Kansas City, KS 66101 | Ann Jacobs, 913-551-7930.
Colorado, Montana, North Dakota, South Dakota, Utah, Wyoming | EPA Region 8, 999 18th Street, Suite 500, Denver, CO 80202-2466 | Bill Wuerthele, 303-312-6943.
Arizona, California, Hawaii, Nevada, American Samoa, Guam | EPA Region 9, Water Division, 75 Hawthorne Street, San Francisco, Ca 94105 | Gary Wolinsky, 415-744-1978.
Alaska, Idaho, Oregon, Washington | EPA Region 10, Water Division, 1200 Sixth Avenue, Seattle, WA 98101 | Lisa Macchio, 206-553-1834.

Water Quality Standards Approvals

EPA Region 1

Connecticut

Water quality standards for the State of Connecticut adopted pursuant to section 22a-426 of the Connecticut General Statutes.

Effective Date: October 22, 1997 and March 30, 1999.

EPA Action: Approval on September 17, 1999.

For the surface waters in the Housatonic and Southwest Coastal Basins, Connecticut reclassified ten waterbodies from Class AA to Class A, one waterbody segment from Class A to Class AA, and upgraded 11 coastal and marine waters from Class SB to Class SA.

Massachusetts

Water quality standards for the State of Massachusetts as adopted pursuant to the Massachusetts Water Quality Standards Regulations.

Adopted by the State: September 2, 1998.

EPA Action: Approval on September 10, 1998.

EPA's Boston Harbor enforcement case required that the Massachusetts Water Resources Authority (MWRA) design and construct facilities to reduce combined sewer overflows (CSO) to the Charles River. Massachusetts Department of Environmental Protection issued a temporary variance to water quality standards for those discharges remaining after the CSO control facilities are constructed. The two-year variance includes a number of requirements designed to ensure the implementation of CSO controls. The variance also requires the MWRA to participate in an extensive study of water quality problems in the Charles River.

Rhode Island

Water quality standards for the State of Rhode Island as adopted pursuant to the Department of Environmental Management's Water Quality Regulations.

Adopted by the State: March 25, 1999.

Effective Date: April 14, 1999.

EPA Action: Approval on January 26, 2000.

Rhode Island revised its surface water quality standards by upgrading the waters around the recently eliminated Fort Adams marine sewer outfall, and by revising its freshwater ammonia criteria.

Adopted by the State: August 6, 1997.

Effective Date: August 26, 1997.

EPA Action: January 15, 1999.

Rhode Island revised its surface water quality standards by: Clarifying that full “goal” uses of the Clean Water Act at Section 101(a)(2) are included in use classifications where appropriate; upgrading numerous waters to provide for primary contact recreation; including a narrative criteria for maintaining instream flow conditions; clarifying variance provisions; adopting freshwater dissolved oxygen criteria for protection of spawning and early life stages of cold water species; adopting a narrative nutrient criterion protecting marine waters and a numeric phosphorus criterion for certain fresh waters; adopting numeric criteria for protection of human health; revising its metals criteria for aquatic life protection; adopting a “Tier 2.5 Special Resource Protection Water” antidegradation provision; including an antidegradation implementation policy; adopting a partial use classification to accommodate waterbody segments that are unable to attain full Clean Water Act Section 101(a)(2) “goal” uses due to combined sewer overflow discharges; removing the prohibition of certain new discharges to Class A and SA waters (and other waters that meet Class A and SA standards); and adopting site-specific criteria for certain metals applicable to specified segments of the Pawtuxet River.

Vermont

Water quality standards for the State of Vermont as adopted pursuant to Vermont state law at 3 V.S.A.

Adopted by the State: June 10, 1999.

Effective Date: July 2, 1999.

EPA Action: Approval on December 22, 1999.

Vermont revised its surface water quality standards by: Changing some of its terms/definitions; adopting a water conservation policy; adopting a riparian vegetation policy; adopting an important antidegradation provision; deleting a provision which caused concerns that indirect discharges of sewage could be exempt from the State's High Quality Waters and Outstanding Resource Waters antidegradation provisions; adopting additional narrative criteria concerning water quality within mixing zones; deleting an assumption that an ambient water quality criterion for a toxic pollutant was met in a waterbody if the concentration of that pollutant in a discharge was less than the analytical limit of detection; including conditions governing site-specific studies used to establish instream flow requirements for the protection of aquatic habitat and uses; including conditions specifically recognizing the need to control human induced water level fluctuations and high flows, in addition to human induced low flows, as necessary to protect uses; dividing Class A waters into Class A(1) Ecological and Class A(2) Water Supply; creating three Class B “Water Management Types” for future division of Class B waters; and adopting a narrative biological criteria for each use classification or management type.

EPA Region 2

New York

Water quality standards for the State of New York as adopted pursuant to Title 6 of the New York State Code of Rules and Regulations (6NYCRR) Parts 800-941.

Adopted by the State: May 31, 1996.

Effective Date: May 31, 1996.

EPA Action: Approval on February 18, 1999.

The amended surface water classifications for the four New York City water supply reservoirs consist of the reclassification of all or portions of the Cannonsville, Neversink, Pepacton, and Schoharie Reservoirs from Class “A” to Class “AA,” such that all portions of these four reservoirs are now classified as Class “AA.”

Adopted by the State: January 5, 1991.

Effective Date: January 5, 1991.

EPA Action: Approval on February 18, 1999.

The amended surface water classifications for the Susquehanna River drainage basin consist of the reclassification of a total of 1,276 segments in the basin to higher classifications, including the upgrade of 1,229 segments from Class “D.”

Adopted by the State: February 2, 1991.

Effective Date: February 2, 1991.

EPA Action: Approval on February 18, 1999.

The amended surface water classifications for the Chemung River drainage basin consist of the reclassification of a total of 248 segments in the basin to higher classifications, including the upgrade of 209 segments from Class “D.”

Adopted by the State: January 12, 1992.

Effective Date: January 12, 1992.

EPA Action: Approval on February 18, 1999.

The amended surface water classifications for the Upper Hudson River drainage basin consist of the reclassification of a total of 857 segments in the basin to higher classifications, including the upgrade of 629 segments from Class “D.”

Adopted by the State: May 23, 1991.

Effective Date: May 23, 1991.

EPA Action: Approval on February 18, 1999.

The amended surface water classifications for the Lake Ontario drainage basin consist of the reclassification of a total of 606 segments in the basin to higher classifications, including the upgrade of 518 segments from Class “D.”

Adopted by the State: May 23, 1991.

Effective Date: May 23, 1991.

EPA Action: Approval on February 18, 1999.

The amended surface water classifications for the Lake Erie/Niagara River drainage basin consist of the reclassification of a total of 333 segments in the basin to higher classifications, including the upgrade of 297 segments from Class “D.” The most significant result of these reclassification actions is the upgrade of the numerous segments in these drainage basins from Class “D,” which provides protection for fish survival, to higher classifications which are protective of both fish survival and fish propagation. The designated uses for the above-referenced segments are now fully consistent with the “fishable/swimmable” goals of the Clean Water Act. In those cases where NYSDEC has determined that a particular water body segment was unable to support fish propagation, and the Class “D” designation was retained, the State provided individual use attainability analyses (UAAs) to support these determinations.

New Jersey

Water quality standards for the State of New Jersey are adopted pursuant to: New Jersey Administrative Code 7:9B.

Adopted by the State: December 6, 1993.

Effective Date: December 6, 1993.

EPA Action: Approval on March 17, 2000.

New Jersey adopted revisions to several water body classifications based on trout fisheries data; designated the Rockaway River as a Category 1 water for antidegradation purposes; made numerous editorial/clarification changes; adopted provisions to set thermal criteria to restrict thermal dissipation in lakes, ponds and reservoirs classified as FW2-TP; adopted thermal criteria for estuaries; included wetlands in the definition of State waters; adopted a provision which will allow for the issuance of compliance schedules for water-quality based effluent limits; adopted a provision to prohibit mixing zones for bacterial indicators; revised the steady-state design flows for establishing critical low flows applicable to the attainment of acute and chronic aquatic life-based criteria, and carcinogenic and non-carcinogenic human health-based criteria; revised the State's steady-state design flows; and adopted chemical-specific numeric criteria for toxic pollutants of concern in the State.

EPA Region 3

Delaware

Water Quality Standards for the State of Delaware are contained in: 7 DE Code Section 6010, Surface Water Quality Standards.

Adopted by the State: July 15, 1999.

Effective Date: August 11, 1999.

EPA Action: Approval on December 2, 1999.

The State of Delaware adopted revisions to its surface water quality standards to address EPA's April 1998 disapproval. The State deleted intake credit and erosion/corrosion provisions, modified low flow waters language, and specified that its metals criteria are expressed as total recoverable.

District of Columbia

Water quality standards for the District of Columbia are contained in: Chapter 11 of Title 21 DCMR, Water Quality Standards of the District of Columbia.

Adopted by the District: January 12, 2000.

Effective Date: January 21, 2000.

EPA Action: Approval on April 18, 2000.

The District of Columbia revised its variance and mixing zone provisions, and adopted appropriate conversion factors for its metals criteria. These revisions addressed earlier disapprovals.

Pennsylvania

Water quality standards for the Commonwealth of Pennsylvania are contained in: Title 25, Environmental Protection, Department of Environmental Protection, Chapter 93. Water Quality Standards.

Adopted by the Commonwealth: December 20, 1994.

Effective Date: September 9, 1995.

EPA Action: Approval on May 28, 1998.

Pennsylvania revised a number of stream designations statewide (Chapter 93, section 93.9).

Adopted by the Commonwealth: August 20, 1996.

Effective Date: November 9, 1996.

EPA Action: Approval on June 3, 1998.

Pennsylvania revised a number of stream redesignations statewide (Chapter 93, section 93.9).

Adopted by the Commonwealth: July 15, 1997.

Effective Date: October 11, 1997.

EPA Action: Approval on June 3, 1998.

Pennsylvania revised a number of stream redesignations statewide (Chapter 93, section 93.9).

Adopted by the Commonwealth: May 19, 1999.

Effective Date: July 17, 1999.

EPA Action: Approval on March 17, 2000.

Pennsylvania revised its antidegradation regulation in response to EPA's 1994 disapproval. EPA's action approved the modifications to its Tier 1 and Tier 2 provisions.

West Virginia

Water quality standards for the State of West Virginia are contained in: Title 46, Legislative Rule, Environmental Quality Board, Series 1, Requirements Governing Water Quality Standards.

Adopted by the State: June 1, 1998.

Effective Date: July 1, 1998.

EPA Action: Approval on June 22, 1999.

West Virginia adopted revisions to its water quality standards for the state's mixing zone policy, site-specific criteria, variances, designated uses, and specific water quality criteria. EPA approved these revisions, many of which pertain to the removal of a number of site-specific criteria and variances.

EPA Region 4

Alabama

Water quality standards for the State of Alabama are contained in: Rules of Alabama Department of Environmental Management, Water Division, Water Quality Program, Chapter 335-6-10 (Water Quality Criteria) and Chapter 335-6-11 (Water Use Classifications for Interstate and Intrastate Waters).

Adopted by the State: June 8, 1999.

Effective Date: October 19, 1999.

EPA Action: Approval on February 9, 2000.

The State of Alabama adopted revisions to its water quality standards to reclassify the Outstanding Alabama Water designation for Tensaw River, Briar Lake, and Tensaw Lake.

Florida

Water quality standards for the State of Florida are contained in: Florida Administrative Code, Chapter 62-302 (Surface Water Quality Standards).

Adopted by the State: January 30, 1995.

Effective Dates: April 4, 1995 and April 12, 1995.

EPA Action: Approval on August 31, 1998.

Florida adopted revisions to its water quality standards to designate the Hillsborough Riverine system as an Outstanding Florida Water.

Adopted by the State: November 30, 1995.

Effective Date: November 30, 1995.

EPA Action: Approval on May 26, 2000.

Florida adopted revisions to its water quality standards to remove the aquatic life chronic criterion for marine waters for silver.

Effective Date: May 3, 1994.

EPA Action: September 16, 1999.

The Everglades Forever Act (EFA) provides a compliance schedule for the existing narrative criteria for nutrients in Florida water quality standards as applied to agricultural activities in the Everglades Agricultural Area (EAA). EPA approved that provision of the EFA as a change to water quality standards.

Georgia

Water quality standards for the State of Georgia are contained in: Rules and Regulations for Water Quality Control, Chapter 391-3-6-.03, Water Use Classification and Water Quality Standards.

Adopted by the State: October 21, 1998.

Effective Date: November 23, 1998.

EPA Action: Approval on July 15, 1999.

Georgia adopted revisions to its water quality standards including modified aquatic life chronic criteria for metals (i.e., from the total recoverable to dissolved concentration), and added acute dissolved criteria for the same metals.

Adopted by the State: April 23, 1997.

Effective Date: May 22, 1997.

EPA Action: Approval on May 19, 2000.

Georgia adopted revisions to its water quality standards including the modification of additional narrative turbidity criteria to protect the State's water bodies from impacts due to man-made activities.

Miccosukee Tribe of Florida

The Water Quality Standards are contained in: The Miccosukee Environmental Protection Code Subtitle B: Water Quality Standards for Surface Waters of the Miccosukee Tribe of Indians of Florida.

Adopted by the Tribe: December 19, 1997 and March 4, 1998.

Effective Date: December 19, 1997 and March 4, 1998.

EPA Action: Approval on May 25, 1999.

The Miccosukee Tribe adopted the initial Tribal Water Quality Standards for the Miccosukee's Federal Reservation including designated uses, supporting criteria, an antidegradation policy, and implementing provisions.

Mississippi

Water quality standards for the State of Mississippi are contained in: State of Mississippi Water Quality Criteria for Intrastate, Interstate, and Coastal Waters.

Adopted by the State: February 24, 1994 and November 16, 1995.

Effective Date: February 24, 1994 and November 16, 1995.

EPA Action: Approval on December 28, 1998.

Mississippi adopted revisions of state water quality standards based on its triennial review. Revisions include establishment of the water effects ratio for the derivation of site specific criteria, stream flow for the establishment of storm water permit limits, and adoption of dissolved numeric criteria for metals.

North Carolina

Water Quality Standards for the State of North Carolina are contained in: 15 NCAC 2B .0100 Procedures for Assignment of Water Quality Standards and .0200 Classifications and Water Quality Standards Applicable to Surface Waters of North Carolina.

Adopted by the State: March 30, 1998.

Effective Date: May 1, 1996 and December 31, 1997.

EPA Action: Approval on September 21, 1998.

North Carolina adopted revisions to its water quality standards including revised recreational and water supply use designations.

Adopted by the State: February 1, 1999.

Effective Date: August 1, 1998.

EPA Action: Approval on September 10, 1999.

North Carolina adopted revisions to its water quality standards adding subcategories of recreational use, water supply use, high quality and outstanding resource water designations.

Seminole Tribe of Florida

Water quality standards for the Seminole of Florida are contained in: Seminole Tribe of Florida's Rules, Chapter B, Part 12, Water Quality Standards for Surface Waters.

Adopted by the Tribe: March 25, 1998.

Effective Date: March 25, 1998.

EPA Action: Approval on November 19, 1998.

The Seminole of Florida adopted revisions to its water quality standards to extend the protection of the Tribal Water Quality Standards to the Brighton Reservation.

South Carolina

Adopted by the State: May 8, 1998.

Effective Date: June 26, 1998.

EPA Action: Approval on May 26, 2000.

South Carolina adopted revisions to its water quality standards based on its triennial review, including allowance for a zone of initial dilution, defining allowable dissolved oxygen deficit in areas with naturally low dissolved oxygen, and updating toxics criteria.

Adopted by the State: May 8, 1998.

Effective Date: June 26, 1998.

EPA Action: Approval on September 21, 1998.

South Carolina adopted revisions to its water quality standards including redesignation of selected streams in the Little, Middle Saluda, Toxaway, Keowee, Oolenoy, South Pacolet, South Saluda, and Tugaloo river basins to Outstanding Resource Waters or to protect trout populations.

Tennessee

Water quality standards for the State of Tennessee are contained in: State of Tennessee Water Quality Standards, Rules of the Department of Environment and Conservation, Bureau of Environment, Division of Water Pollution Control Chapter 1200-4-3 General Water Quality Criteria and Chapter 1200-4-4 Use Classifications for Surface Waters.

Adopted by the State: June 22, 1999.

Effective Date: October 11, 1999.

EPA Action: Approval on March 14, 2000.

Tennessee adopted revisions to its water quality standards including: Additional high quality and outstanding resource water designations, addition of recreational use E. coli bacteriological criteria, fish and aquatic life criteria revisions for pH and mercury, recreation human health use criteria revisions for seven toxics, antidegradation revisions, and flow criteria.

EPA Region 5

Illinois

Water quality standards for the State of Illinois are contained in: 35 Illinois Administrative Code 302 and 304.

Adopted by the State: July 29, 1999

EPA Action: March 16, 2000.

Illinois adopted site specific criteria for chlorine and total suspended solids for the North Branch of the Chicago River.

Adopted by the State: June 25, 1999.

EPA Action: December 1, 1999.

Illinois revised its water quality criteria and implementation procedures for ammonia, and revised its water quality criteria for lead and mercury.

Michigan

Water quality standards for the State of Michigan are contained in: Department of Environmental Quality General Rules Part IV and Michigan Administrative Code 323.

Adopted by the State: April 5, 1999.

EPA Action: May 21, 2000.

Michigan updated its uses and revised its antidegradation policy for Lake Superior.

Ohio

Water quality standards for the State of Ohio are contained in: Ohio Administrative Code 3745.

Adopted by the State: July 22, 1999.

EPA Action: November 12, 1999.

Ohio updated the designated uses for its surface waters.

EPA Region 6

Arkansas

Water Quality Standards for the State of Arkansas are contained in: Regulation No. 2—Regulation Establishing Water Quality Standards for Surface Waters of the State of Arkansas.

Adopted by the State: September 29, 1995.

Effective Date: November 27, 1995.

EPA Action: Approval on April 28, 1999.

Interim revision (due to a third party request): Arkansas deleted its domestic water supply use designation for Hurricane Creek and its tributaries, Holly Creek, Dry Lost Creek and its tributary, and Lost Creek. The State also revised its sulfate, chloride, and total dissolved solids criteria on Hurricane Creek and its tributaries, Dry Lost Creek and its tributary, Lost Creek, and the East Fork of the Saline River bifurcation. Holly Creek's chloride criterion was also revised.

Adopted by the State: March 27, 1998.

Effective Date: May 2, 1998.

EPA Approval: Approval on April 28, 1999.

Through this interim revision, Arkansas deleted the domestic water supply use designation for Horsehead Creek and its tributary, and revised the sulfate, chloride, and total dissolved solids criteria for Horsehead Creek and its tributary, and for Bayou Dorcheat.

Louisiana

Water quality standards for the State of Louisiana are contained in: Louisiana Administrative Code, Title 33, Part IX, Chapter 11.

Adopted by the State: April 20, 1998.

Effective Date: April 20, 1998.

EPA Action: Approval on August 13, 1998.

Through this interim revision, Louisiana established a seasonal recreational period for bacteria criteria.

Adopted by the State: November 20, 1998.

Effective Date: November 20, 1998.

EPA Action: Approval on January 7, 1999.

Louisiana revised its seasonal dissolved oxygen (DO) criterion for several waterbodies in the Mermentau River Basin (Bayou Nezpique, Bayou Plaquemine Brule, Bayou des Cannes, Mermentau River, Bayou Queue de Tortue, and Bayou Lacassine).

Adopted by the State: December 20, 1999.

Effective Date: December 20, 1999.

EPA Action: Approval on May 12, 2000.

In this triennial revision, Louisiana added definitions and updated criteria for Dieldrin, Endrin, and Arsenic. A table listing conversion factors for dissolved metals was added. Citations and references were updated with a new section added to cite additional toxicity testing. Clerical errors were corrected in the table containing numeric criteria and designated uses. Four subsegments were consolidated into two subsegments. Four streams in the Mermentau River Basin were designated as naturally dystrophic waters with seasonal dissolved oxygen (DO) criteria (Bayou Blue, Castor Creek, Bayou Joe Marcel, and Bayou Mallet).

Oklahoma

Water Quality Standards for the State of Oklahoma are contained in: OAC 785:45, Oklahoma's Water Quality Standards.

Adopted by State: May 8, 1997.

Effective Date: July 7, 1997.

EPA Action: Approval on June 18, 1999.

In its triennial revision, Oklahoma changed its use designations, removed the arsenic criteria for protection of human health, and adopted dissolved metals criteria.

Adopted by State: March 10, 1998.

Effective Date: April 21, 1998.

EPA Action: Approval on March 3, 2000.

Oklahoma changed its use designations, established new definitions, clarified its antidegradation policy, and corrected clerical errors.

Adopted by State: March 9, 1999.

Effective Date: April 13, 1998.

EPA Action: Approval on March 23, 2000.

Oklahoma revised its definitions, expanded its antidegradation policy applicability, replaced equivalent terms with identical terms, and established an acute mixing zone policy.

Pueblo of San Juan

Water quality standards for the Pueblo of San Juan are contained in the Pueblo of San Juan Water Quality Code as adopted pursuant to Tribal Resolution 98-05.

Adopted by the Tribe: March 11, 1998.

Effective Date: March 11, 1998.

EPA Action: June 4, 1998.

This was a triennial revision for the Tribe which included updating aquatic life and human health criteria, conversion of dissolved metals, and adoption of criteria for E. coli.

EPA Region 7

Iowa

Water quality standards for the State of Iowa are contained in: 567 Iowa Administrative Code, Chapter 61, Water Quality Standards.

Adopted by the State: 17 separate actions between June 1990 and January 1997.

Effective Date: (of last revision) March 19, 1997.

EPA Action: Approval on July 1, 1999.

Through 17 separate water quality standards actions, Iowa substantially revised and restructured its designated uses category for Class B waters for 770 stream segments. The State of Iowa also adopted 112 water quality criteria for 61 pollutants to support both Class B and Class C uses.

Kansas

Water quality standards for the State of Kansas are contained in: Kansas Administrative Regulations, Title 28, Article 16, Section 28, Surface Water Quality Standards.

Adopted by the State: June 29, 1999.

Effective Date: July 30, 1999.

EPA Action: Approval on January 19, 2000.

Kansas substantially revised its antidegradation regulations to include the three levels of water quality protection specified in 40 CFR 131.12. The revisions to the antidegradation regulations resolved an outstanding disapproval. Kansas also revised its antidegradation implementation procedures to address many of EPA's 1998 disapprovals. Kansas revised its mixing zone policy to clarify mixing zone limitations and to allow for alternate mixing zones provided that the proposal is scientifically defensible and remains protective of designated uses. Kansas added a provision to allow for the development of alternate low flows provided that the proposed alternate low flow is scientifically defensible and that water quality criteria are not exceeded more often than once every three years. The state revised its recreational use terminology and added boating and mussel harvesting to the list of primary contact recreation activities. Kansas also substantially revised its water quality implementation procedures to address newly added provisions and to clarify existing procedures. The designated beneficial uses were upgraded for 24 stream segments and 34 lakes. In addition, 15 lakes and 36 wetlands were also added to the Kansas Surface Water Register. Kansas adopted 29 water quality criteria for 22 pollutants, which prompted EPA to remove Kansas from the National Toxics rule for several of these newly adopted pollutants. Lastly, the State of Kansas revised its site-specific criteria and variance procedures.

EPA Region 8

Colorado

Water quality standards for the State of Colorado are adopted by the Water Quality Control Commission (Commission) and are contained in the following State regulations:

• The Basic Standards and Methodologies for Surface Water. Regulation No. 31.

• Classifications and Numeric Standards for Arkansas River Basin. Regulation No. 32.

• Classifications and Numeric Standards for Upper Colorado River Basin and North Platte River (Planning Region 12). Regulation No. 33.

• Classifications and Numeric Standards for San Juan River and Dolores River Basins. Regulation No. 34.

• Classifications and Numeric Standards for Gunnison and Lower Dolores River Basins. Regulation No. 35.

• Classifications and Numeric Standards for Rio Grande River Basin. Regulation No. 36.

• Classifications and Numeric Standards for Lower Colorado River Basin. Regulation No. 37.

• Classifications and Numeric Standards for South Platte River Basin; Laramie River Basin; Republican River Basin; Smoky Hill River Basin (the South Platte Basin). Regulation No. 38.

Adopted by the State: July 11, 1994.

Effective Date: August 30, 1994.

EPA Action: Approval on May 5, 1998.

Revisions to the Rio Grande River Basin water quality standards were adopted for segments 8, 9, and 11 of the Closed Basin (Kerber Creek and its tributaries).

Adopted by the State: October 11, 1994.

Effective Date: November 30, 1994.

EPA Action: Approval on May 5, 1998.

Revisions to the Upper Colorado and North Platte River Basin water quality standards were adopted to extend the temporary modification for ammonia applicable to segment 6c of the Upper Colorado River Basin (unnamed tributary to Willow Creek).

Adopted by the State: January 10, 1995.

Effective Date: March 2, 1995.

EPA Action: Approval on May 5, 1998.

Revisions to the Basic Standards and Methodologies for Surface Waters were adopted to clarify the antidegradation rule and to update the human health-based numeric standards for organics. The chronic and “chronic trout” table value standards for silver to protect aquatic life were suspended for three years pending completion of studies. Numeric standards for trihalomethanes were also adopted.

Adopted by the State: February 13, 1995.

Effective Date: March 30, 1996.

EPA Action: Approval on May 5, 1998.

Revisions to the South Platte River Basin water quality standards were adopted, including dissolved oxygen numeric standards to protect aquatic life applicable to Segment 15 of the Upper South Platte River Basin.

Adopted by the State: February 13, 1995.

Effective Date: March 30, 1996.

EPA Action: Approval on May 5, 1998.

Revisions to the Gunnison and Lower Dolores River Basin water quality standards were adopted to extend temporary modifications for cadmium and zinc applicable to segments 12 and 13 of the Upper Gunnison River Basin.

Adopted by the State: July 10, 1995.

Effective Date: August 30, 1995.

EPA Action: Approval on May 5, 1998.

Revisions to the water quality standards for South Platte, Lower Colorado, Rio Grande, Gunnison and Lower Dolores, San Juan and Dolores, Upper Colorado and North Platte, and Arkansas River Basins were adopted to suspend for three years any numeric standards for silver that were based on the chronic and “chronic trout” table value standards.

Adopted by the State: December 11, 1995.

Effective Date: January 30, 1996.

EPA Action: Approval on May 5, 1998.

Revisions to the South Platte Basin water quality standards were adopted to extend the temporary modifications for cadmium, manganese, zinc, and radium applicable to segment 5 of the Clear Creek Basin.

Adopted by the State: December 11, 1995.

Effective Date: January 30, 1996.

EPA Action: Approval on May 5, 1998.

Revisions to the Gunnison and Lower Dolores River Basin water quality standards were adopted to extend temporary modifications for cadmium and zinc applicable to segment 12 and 13 of Upper Gunnison River Basin.

Adopted by the State: December 11, 1995.

Effective Date: January 30, 1996.

EPA Action: Approval on May 5, 1998.

Revisions to the Upper Colorado and North Platte River Basin. Revisions were adopted to reaffirm the acute and chronic numeric standard for ammonia and extend the temporary modification for un-ionized ammonia for segment 6c of the Upper Colorado River Basin.

Adopted by the State: December 9, 1996.

Effective Date: January 30, 1997.

EPA Action: Approval on May 5, 1998.

Revisions to the Upper Colorado and North Platte River Basin water quality standards were adopted to make minor changes and correct typographical errors.

Adopted by the State: April 14, 1997.

Effective Date: May 30, 1997.

EPA Action: Approval on May 5, 1998.

Revisions to the South Platte River Basin water quality standards were adopted, including the dissolved oxygen numeric standards applicable to segment 15 of the Upper South Platte basin.

Adopted by the State: May 12, 1997.

Effective Date: June 30, 1997.

EPA Action: Approval on May 5, 1998.

Revisions to the South Platte River Basin water quality standards were adopted to make minor changes to temporary modifications, ambient-based standards, dissolved metal standards, and recreation uses and to correct typographical errors for eight segments.

Adopted by the State: May 12, 1997.

Effective Date: June 30, 1997.

EPA Action: Approval on May 5, 1998.

Revisions to the Rio Grande River Basin water quality standards were adopted for segments 9a and 9b of the Closed Basin (Kerber Creek), including revised numeric standards for cadmium and selenium and temporary modifications for cadmium, copper, manganese, zinc.

Adopted by the State: September 8, 1997.

Effective Date: October 30, 1997.

EPA Action: Approval on May 5, 1998.

Revisions to the Arkansas River Basin water quality standards were adopted to extend temporary modifications for manganese, iron, pH, aluminum, cyanide, and zinc applicable to Cripple Creek and Arequa Gulch.

Adopted by the State: November 3, 1997.

Effective Date: December 30, 1997.

EPA Action: Approval on May 5, 1998.

Revisions to the Upper Colorado and North Platte River Basin water quality standards were adopted to establish temporary modifications for iron and manganese on the Williams Fork River.

Adopted by the State: March 10, 1998.

Effective Date: April 30, 1998.

EPA Action: Approval on May 5, 1998.

Revisions to the Arkansas River Basin water quality standards were adopted to add a new segment 7 to the Fountain Creek Basin to include Willow Springs Pond # 1 and Willow Springs Pond # 2. Segment 7 was assigned warmwater Class 2 aquatic life, recreation Class 2 and agriculture designated uses and accompanying table value standards. The Commission also assigned human health standards based on water and fish ingestion and adopted a temporary modification for tetrachloroethylene.

Adopted by the State: February 13, 1995 and December 8, 1997.

Effective Date: March 30, 1995 and January 30, 1998, respectively.

EPA Action: Approval on March 6, 1995 and December 29, 1997, respectively.

Revisions were made to the classifications and numeric standards of segments located in the Upper Animas River Basin (San Juan and Dolores River Basin).

Adopted by the State: September 14, 1998.

Effective Date: October 30, 1998.

EPA Action: Approval on March 29, 1999.

Revisions were made to the classifications and numeric standards for segments of the Alamosa River and tributaries (Rio Grande River Basin).

Adopted by the State: December 6, 1993.

Effective Date: January 31, 1994.

EPA Action: Approval on July 14, 1999.

Revisions to the Basic Standards and Methodologies for Surface Waters provided a statewide numeric standard for diisopropylmethylphosphonate for the protection of the water supply designated use.

Adopted by the State: May 13, 1996.

Effective Date: June 30, 1996.

EPA Action: Approval on July 14, 1999.

Revisions were made to the classifications and numeric standards for the South Platte River Basin to extend the temporary modifications for segment 5 of Big Dry Creek.

Adopted by the State: April 13, 1998.

Effective Date: May 30, 1998.

EPA Action: Approval on July 14, 1999.

Revisions to the classifications and numeric standards for the Gunnison and Lower Dolores River basins corrected an error in the listing of table value standards and deleted the effective date for the chronic silver table value standard.

Adopted by the State: December 14, 1998.

Effective Date: January 30, 1999.

EPA Action: Approval on July 14, 1999.

Revisions were made to the classifications and numeric standards for the Gunnison and Lower Dolores River basins to extend the temporary modifications for various segments.

Adopted by the State: January 11, 1999.

Effective Date: March 2, 1999.

EPA Action: Approval on July 14, 1999.

Revisions to the Basic Standards and Methodologies for Surface Waters corrected errors in the regulation.

Adopted by the State: February 8, 1994 (Rio Grande Basin) and April 10, 1995 (San Juan and Dolores River Basins).

Effective Date: March 30, 1994 and May 30, 1995, respectively.

EPA Action: Approval for all basins on April 25, 2000.

Revisions were made to the classifications and standards applicable to the Rio Grande and San Juan and Dolores River basins. These revisions included: Water supply designated uses, numeric standards for the protection of water supply designated uses, numeric standards for the protection of fish consumption uses, recreation designated uses, and numeric standards for the protection of recreation designated uses. EPA also approved revisions to: agriculture designated uses, numeric standards for the protection of agriculture designated uses, aquatic life designated uses, numeric standards for the protection of aquatic life uses, and other revisions, including the adoption of temporary modifications and Use Protected classifications, and revisions that resulted in the re-segmentation, re-naming and consolidation of segments.

Adopted by the State: October 11, 1995 and October 14, 1998 (Arkansas River Basin).

Effective Date: November 30, 1995 and November 30, 1998, respectively.

EPA Action: Approval on May 5, 2000.

Revisions were made to: Water supply designated uses, numeric criteria for the protection of water supply designated uses, numeric criteria for the protection of fish consumption uses, recreation designated uses, and numeric criteria for the protection of recreation uses. EPA also approved revisions to: Numeric criteria for the protection of agricultural uses and aquatic life, aquatic life designated uses, and other revisions, including the adoption of temporary modifications, Outstanding Waters classifications, and Use Protected classifications, and revisions that resulted in the re-segmentation, re-naming and consolidation of segments.

Adopted by the State: July 14, 1997 (Gunnison and Lower Dolores Basin Revisions) and October 12, 1999 (Upper Colorado and North Platte Basin Revisions).

Effective Date: August 30, 1997 and November 30, 1999, respectively.

EPA Action: Approval on May 5, 2000.

Revisions were made to: Water supply designated uses, numeric criteria for the protection of water supply designated uses, numeric criteria for the protection of fish consumption uses, recreation designated uses, and numeric criteria for the protection of recreation uses. EPA also approved revisions to: Agriculture designated uses, numeric criteria for the protection of agriculture and aquatic life uses, aquatic life designated uses, and other revisions, including the adoption of temporary modifications, Outstanding Waters and Use Protected classifications for individual segments, and revisions that resulted in the re-segmentation, re-naming and consolidation of segments.

Montana

Water quality standards for the State of Montana are contained in the State's Water Quality Act and the following regulations: Surface Water Quality Standards—Sub-chapter 6, including the numerical aquatic life criteria in WQB-7 (adopted and incorporated by reference in the water quality standards regulation); Mixing Zones in Surface and Ground Water—Sub-chapter 5; and Nondegradation of Water Quality—Sub-chapter 7.

Adopted by the State: December 1995.

Effective Date: February 12, 1996.

EPA Action: Approval on January 26, 1999.

Amendments were made to the surface water quality standards, Sub-chapter 6. The principal element addressed in this amendment was the development and adoption of Department Circular WQB-7. This document establishes the numerical criteria for toxic, carcinogenic and harmful parameters in water and lists criteria for the protection of human health and aquatic life.

Adopted by the State: December 1995.

Effective Date: February 12, 1996.

EPA Action: Approval on January 26, 1999.

This amendment to Sub-chapter 5 addressed adoption of a revised mixing zone provision, including a detailed implementation procedure.

Adopted by the State: August 11, 1997.

Effective Date: November 18, 1997.

EPA Action: Approval on January 26, 1999.

This amendment to Sub-chapter 7 addressed adoption of a revised nondegradation (antidegradation) and a detailed implementation procedure.

In addition, EPA's January 26, 1999 action approved the following elements of Montana's Water Quality Statute: (1) Definitions of: high-quality waters, outstanding resource waters, and state waters; and (2) provisions for: Future establishment of a new aquatic life classification for waters not supporting fish; future consideration of the economics of waste treatment and prevention in formulating and adopting standards; establishment of risk levels of 10⁻³ for arsenic, with a maximum no greater than EPA's maximum contaminant level for drinking water, and establishment of a risk level of 10⁻⁵ for other carcinogens; development of site-specific water quality standards, based on federal regulations, guidelines or criteria, upon application by a permit applicant, permittee or person potentially liable under any state or federal environmental remediation statute; adoption of temporary standards and conditions for granting temporary standards; a statement of basis for Outstanding Resource Waters and guidance for establishing rules for designating Outstanding Resource Waters; and (3) provisions for defining the following classes of activities as non-significant for nondegradation purposes: Existing activities that are nonpoint sources of pollution as of April 29, 1993 and activities that are nonpoint sources of pollution initiated after April 29, 1993; acceptable uses of agricultural chemicals; acceptable changes in existing water quality resulting from an emergency or remedial activity; acceptable land application of animal waste, domestic septage, or waste from public sewage treatment systems containing nutrients; acceptable incidental leakage of water from a public water supply system; acceptable short-term changes in existing water quality resulting from ordinary and everyday activities of humans or domesticated animals; allowable hazardous waste management facilities, solid waste management systems, motor vehicle wrecking facilities, and county motor vehicle graveyards; allowable maintenance, repair, or replacement of dams, diversions, weirs, or other constructed works that are related to existing water rights and that are within wilderness areas; and a description of any other activity that is non-significant because of its low potential for harm to human health or to the environment.

Adopted by the State: 1999 Session of the State Legislature.

Effective Date: May 10, 1999.

EPA Action: Approval on August 12, 1999.

Amendments were adopted to address EPA disapproval actions dated December 24, 1998 and January 26, 1999, including: Classes of activities that are considered non-significant for nondegradation review purposes; a new definition for degradation; Outstanding Resource Water classification rules, criteria, limitations and procedures; limits on short-term authorizations to emergency remediation activities and application of EPA-registered pesticides when those pesticides are used to control nuisance aquatic organisms or to eliminate undesirable and nonnative aquatic species; short-term water quality standards for turbidity; a provision describing when a discharge to surface water of ground water that is not altered from its ambient quality constitutes degradation and requires an NPDES permit.

South Dakota

Water quality standards for the State of South Dakota are contained in the State's Water Quality Standards Regulation, Chapters 74:51:01, 74:51:02, and 74:51:03.

Adopted by the State: April 29, 1997.

Effective Date: November 12, 1997.

EPA Action: Approval on August 25, 1998.

These amendments were adopted during South Dakota's triennial review of its water quality standards. The principal elements addressed in these amendments include: Updated numerical water quality standards for toxic pollutants for the protection of human health and aquatic life; language clarifying the provisions governing the in-zone quality for mixing zones; clarification that the low flow cutoff for low-quality fishery waters did not apply to the numerical standards for toxicants in Appendix B; repeal of the exemption of stream segments from fish life propagation categories; additional language clarifying application of the antidegradation provisions to outstanding state waters, including a process for nominating waters for this designation; repeal of variations in parameters found in samples; and upgraded classifications for a number of lakes and streams.

Adopted by the State: December 3, 1998.

Effective Date: January 27, 1999.

EPA Action: March 29, 2000.

These amendments were adopted by South Dakota to address elements of its water quality standards that were disapproved by EPA on August 25, 1998. The principal elements addressed in these amendments include: The definition of the wildlife propagation and stock watering beneficial use; clarification that both existing and designated uses are to be protected; completion requirements for a beneficial use analysis prior to renewing an existing permit or issuing a new permit to discharge to Class 9 waters; application of criteria to protect existing and attainable uses and application of numerical criteria to Class 9 waters where the discharge or presence of pollutants could reasonably be expected to interfere with existing and attainable uses of Class 9 waters; provisions governing the in-zone quality for mixing zones, including development of the Department's Mixing Zone and Dilution Implementation Procedures, August 1998; antidegradation provisions, including development of the Department's Antidegradation Implementation Procedures, October 1998; clarification that toxic pollutants can include the priority pollutants and any other toxic pollutants or substances determined by the Secretary to be of concern; upgraded the uses for a number of lakes and streams; and changed the uses for four lakes from “cold water marginal” to “warm water permanent” based on an analysis showing that the natural conditions and a change in the Department of Game Fish and Parks' fishery management policy preclude attainment of a cold water fishery.

Utah

Water quality standards for the State of Utah are adopted by the Water Quality Board (Board) and are contained in: Standards of Quality for Waters of the State. R317-2, Utah Administrative Code.

Adopted by the State: February 16, 1994; December 19, 1997; and March 17, 2000.

Effective Date: February 16, 1994; December 19, 1997; and March 17, 2000, respectively.

EPA Action: Approval on May 30, 2000 (Partial EPA Action taken on November 29, 1995).

Revisions were made to: Domestic water supply designated uses; numeric criteria for the protection of human health; recreation designated uses; and numeric criteria for the protection of recreation uses; antidegradation (317-2-3), including the creation of high quality waters—category 2 and high quality waters—category 3; mixing zones (317-2-5), including the size restrictions for mixing zones and the list of factors to be considered when making mixing zone decisions; use designations (317-2-6), including the removal of Class 6 and the creation of Class 5 and Class 3E; high quality waters (317-2-12), including the addition of Deer Creek to the list of high quality waters—category 2 and the addition of the Provo River to the list of high quality waters—category 3; classification of waters of the State (317-2-13), including the adoption of more stringent use designations for a number of segments; and numeric criteria (317-2-14), including the revised total residual chlorine criteria for all Class 3C waters and a portion of Mill Race.

Fort Peck Assiniboine and Sioux Tribes

Water quality standards are adopted by the Executive Board of the Fort Peck Tribes and are contained in: Fort Peck Assiniboine and Sioux Tribes Water Quality Standards.

Adopted by the Tribes: December 22, 1997.

EPA Action: Approval on April 25, 2000.

The Tribes adopted public water supply use designations, numeric water quality criteria for the protection of public water supply and fish consumption uses, recreation use designations, and numeric criteria for the protection of recreation uses. EPA also approved the following sections/appendices of the standards: Purpose and Authority (Section 1); Triennial Review (Section 2); Definitions (Section 3); Antidegradation Policy (Section 4); Narrative Water Quality Criteria (Section 5); Narrative Biological Criteria (Section 6); Water Quality Standards for Wetlands (Section 7); Designated uses (Section 8); Numeric criteria (Section 9); Mixing Zone and Dilution Policy (Section 10); Standards Implementation (Section 11); Analytical Methods (Section 12); Stream Beneficial Uses for the Fort Peck Indian Reservation (Appendix A); Fort Peck Numeric Water Quality Standards (Appendix B); Physical and Biological Criteria Table for the Fort Peck Indian Reservation (Appendix C); and Agricultural Uses Water Quality Standards (Appendix D).

Wyoming

Water quality standards for the State of Wyoming are contained in: Quality Standards for Wyoming Surface Waters, Water Quality Rules and Regulations, Chapter 1.

Adopted by the State: August 24, 1998 and March 7, 2000.

Effective Date: October 15, 1998 and March 9, 2000, respectively.

EPA Action: Approval on May 11, 2000.

These amendments were adopted to: Provide clarification on the prohibition of new or increased point source discharges to Class 1 waters, Wyoming's highest quality waters; create a new section for site-specific criteria; and revise certain numerical criteria.

EPA Region 9

Arizona

Water quality standards for the State of Arizona are contained in: Arizona Administrative Code Title 18, Chapter 11, Article 1.

Adopted by the State: March 22, 1996.

EPA Action: Approval on December 31, 1998.

The State revised portions of its water quality standards addressing the application of the standards to waste treatment systems, the Net Ecological Benefit rule and its implementation, antidegradation, narrative water quality criteria for bottom deposits and oil and grease, numeric standards and criteria for other pollutants, natural background, variances, and use designations.

California

The water quality standards for California are contained in separate Regional Board Water Quality Control Plans, as described below.

Effective Date: July 23, 1997.

EPA Action: Approval on October 9, 1998.

The Water Quality Control Plan for Ocean Waters of California (Ocean Plan) was amended by the State through revision of the Ocean Plan list of critical life stage protocols used in testing the toxicity of waste discharge, and minor changes in terminology to make the Ocean Plan easier to understand and implement.

Adopted by the State: September 27, 1993.

Effective Date: August 18, 1994.

EPA Action: Approval on May 2, 2000.

Revisions to the Water Quality Control Plan for the North Coast Region (Board 1) related to water quality standards included changes to antidegradation, beneficial uses, water quality criteria and implementation of those standards in surface waters.

Adopted by the State: July 20, 1995 and February 19, 1998.

Effective Date: November 13, 1995.

EPA Action: Approval on May 29, 2000.

Resolution numbers 97-076 and 98-014, containing revisions to the Water Quality Control Plan for the San Francisco Bay Basin (Regional Board 2), addressed antidegradation, beneficial uses, water quality criteria and implementation of those standards in surface waters.

Adopted by the State: May 19, 1994; November 17, 1994; and August 17, 1995.

Effective Date: March 3, 1995.

EPA Action: Approval on May 30, 2000.

State Board Resolutions 94-44, 94-115, and 95-53 amended the Water Quality Control Plan for the Central Coast Region (Board 3) by addressing antidegradation, beneficial uses, water quality criteria, and implementation of those standards in surface waters.

Adopted by the State: March 27, 1989; October 22, 1990; June 13, 1994; and January 27, 1997.

Effective Date: February 23, 1995.

EPA Action: Approval on May 26, 2000.

Portions of the 1989, 1990, 1994, and 1997 Water Quality Control Plans for the Los Angeles Region (Board 4) were revised to address antidegradation, beneficial uses, water quality objectives, specific criteria for site-specific determination of effluent limits, and the strategic planning and implementation of water quality standards for surface waters.

Adopted by the State: May 3, 1996.

Effective Date: January 10, 1997.

EPA Action: Approval on May 24, 2000.

State Board Resolution 96-078, the “Grassland Amendments” to the Water Quality Control Plan for the Sacramento River and San Joaquin River Basins (Regional Board 5), addressed antidegradation, beneficial uses, water quality criteria, and implementation of water quality standards for surface waters.

Adopted by the State: March 22, 1990.

Effective Date: September 25, 1995.

EPA Action: Approval on May 26, 2000.

State Board Resolution 90-28 reformatted and updated the Water Quality Control Plan for the Sacramento River and San Joaquin River Basins (Regional Board 5) for the first time since its original adoption in 1975.

Adopted by the State: February 15, 1990.

Effective Date: September 25, 1995.

EPA Action: Approval on May 26, 2000.

State Board Resolution 90-20, regarding the Water Quality Control Plan for the Sacramento River and San Joaquin River Basins (Regional Board 5), revised the pesticide objectives for inland surface waters covered by the Plan and new provisions regarding their implementation.

Adopted by the State: February 16, 1995.

Effective Date: May 9, 1995.

EPA Action: May 26, 2000.

State Board Resolution 95-12, regarding the Water Quality Control Plan for the Sacramento River and San Joaquin River Basins (Regional Board 5), updated and reformatted the standards, and revised the beneficial uses, water quality objectives, and implementation programs.

Adopted by the State: July 20, 1995.

Effective Date: September 25, 1995.

EPA Action: Approval on May 26, 2000.

The Water Quality Control Plan for the Sacramento River and San Joaquin River Basins (Regional Board 5) was revised to include compliance schedules in National Pollutant Discharge Elimination System (NPDES) permits under certain conditions.

Adopted by the State: November 15, 1995.

Effective Date: February 27, 1996.

EPA Action: Approval on May 29, 2000.

State Board Resolution 95-86 revised the Water Quality Control Plan for the Tulare Lake Basin (Regional Board 5)— Second Edition (1995), addressing antidegradation, beneficial uses, water quality criteria, and implementation of those standards in surface waters.

Adopted by the State: October 1994.

Effective Date: March 31, 1995.

EPA Action: Approval on May 29, 2000.

The Water Quality Control Plan for the Lahonton Region (Board 6), which was revised in September 1993, was amended again in October 1994 by State Board Resolution 95-3. The October 1994 Basin Plan sets forth the most recent water quality standards for surface and ground waters of the Region, which include both designated beneficial uses and the narrative and/or numerical objectives which must be maintained to protect those uses.

Adopted by the State: February 17, 1994.

Effective Date: August 3, 1994.

EPA Action: Approval on May 29, 2000.

State Board Resolution 94-18 revised the Water Quality Control Plan for the Colorado River Basin (Regional Board 7) by addressing the antidegradation policy, beneficial use designations, water quality criteria, and procedures for implementing surface water quality standards.

Adopted by the State: April 17, 1997.

EPA Action: Approval on December 27, 1999.

California adopted the “1996 Review-Water Quality Standards for Salinity-Colorado River System Final Report” (June 1996) and “Supplemental Report” (October 1996), and a plan to implement the salinity standards.

Adopted by the State: July 21, 1994 and July 17, 1997.

Effective Date: January 24, 1995.

EPA Action: Approval on May 30, 2000.

State Board Resolution 94-60 revised portions of the Water Quality Control Plan for the Santa Ana River Basin (Regional Board 8), addressing antidegradation, beneficial uses, water quality criteria, and implementation of water quality standards for surface waters.

Adopted by the State: September 8, 1994.

Effective Date: September 8, 1994.

EPA Action: Approval on May 29, 2000.

State Board Resolution 94-116, the Water Quality Control Plan for the San Diego Basin (Region Board 9), combined all the separate amendments made to the San Diego Basin Plan between November 1987 and October 1994.

Nevada

Water quality standards for the State of Nevada are contained in: Nevada Administrative Code (NAC), Water Pollution Control Provisions.

Adopted by the State: October 22, 1996.

Effective Date: August 17, 1998.

EPA Action: Approval on November 20, 1998.

NAC 445A.1915 made revisions to water quality standards for Lake Tahoe and selected tributaries.

Adopted by the State: June 17, 1998 and September 9, 1999.

Effective Date: August 17, 1998 and February 16, 2000, respectively.

EPA Action: Approval on May 2, 2000.

NAC 445A, 445A.121, 445A.194-445A.201 and 445A.213 revised the water quality standards for Las Vegas Wash and Lake Mead and clarified definitions in the State water pollution control regulations.

Adopted by the State: March 25, 1998.

Effective Date: August 17, 1998 (and an amendment on February 16, 2000).

EPA Action: Approval on March 28, 2000.

NAC 445A.194-197 and amendment 445A.143 added the “1996 Review—Water Quality Standards for Salinity—Colorado River System Final Report” (June 1996) and “Supplemental Report” (October 1996) to Nevada's water quality standards, as well as a plan to implement the salinity standards.

EPA Region 10

Alaska

Water quality standards for the State of Alaska are contained in: Alaska Administrative Code (AAC), Chapter 70 (identified in 18 AAC 70).

Adopted by State: January 30, 1998.

Effective Date: March 1, 1998.

EPA Action: Approval on April 6, 1998.

Alaska adopted site-specific criteria (SSC) for total dissolved solids for the aquaculture and aquatic life use categories for Gold Creek, north of Juneau Alaska. The site included Gold Creek from the Gold Creek drainage tunnel to Gastineau Channel.

Adopted by State: November 7, 1997.

Effective Date: December 12, 1997.

EPA Action: Approval on April 6, 1998.

Alaska adopted site-specific criteria (SSC) for total dissolved solids for the water supply (drinking water and aquaculture) and aquatic life use categories for Sherman and Camp Creeks in Juneau, Alaska. The site includes: Camp Creek below the discharge from the Kensington Mine dry tailings facility to tide water (approximately 1,000 ft) and Sherman Creek below the discharge of Kensington Mine adit drainage to tide water (approximately 1.5 miles).

Adopted by State: July 22, 1998.

Effective Date: July 22, 1998.

EPA Action: Approval on July 29, 1998.

Alaska adopted a site-specific criterion (SSC) for the aquatic life use for zinc. The site specific area includes the mainstem Red Dog and Ikalukrok Creeks. This SSC was based on data that are representative of the natural condition of these drainages.

Oregon

Water quality standards for the State of Oregon are contained in: OAR 340-41.

Adopted by State: January 11, 1996.

EPA Action: Approval on July 22, 1999.

EPA approved the following portions of the Oregon Water Quality Standards: dissolved oxygen, temperature (except for the criteria for the lower Willamette), pH, and bacteria. These standards were developed to protect different life history stages of salmonids, including threatened and endangered salmonid species.

Tribal Water Quality Standards Program Authorizations

Confederated Tribes of the Warm Springs Indian Reservation of Oregon

EPA Action: Approval on May 25, 1999

The Confederated Tribes of the Warm Springs Indian Reservation submitted an application to EPA requesting the authority to administer the Water Quality Standards program (section 303© of the Clean Water Act) and the Water Quality Certification program (section 401 of the Clean Water Act). This application was submitted to EPA, in accordance with Section 518 of the Clean Water Act, for treatment in the same manner as a state.

Federal Water Quality Standards Rulemakings

For purposes of informing the public, EPA is listing those federal water quality standards rulemakings taken pursuant to section 303(c)(4) of the CWA for the period of April 1, 1998 through May 30, 2000. For the full text of the rules, the reader is referred to the Federal Register notices cited.

Alaska

Date of Rule: April 1, 1998.

Reference: 62 FR 10140.

In 1992, EPA promulgated federal regulations (The National Toxics Rule) establishing water quality criteria for toxic pollutants for several states, including Alaska (40 CFR 131.36). One of the toxic pollutants included in that rule was arsenic. In this final rule, EPA withdrew the applicability to Alaska's waters of the federal human health criteria for arsenic.

District of Columbia, Idaho, Kansas, Rhode Island, Vermont

Date of Rule: April 12, 2000.

Reference: 65 FR 19659.

In 1992, EPA promulgated Federal regulations (the National Toxics Rule) establishing water quality criteria for toxic pollutants for several States, including Rhode Island, Vermont, the District of Columbia, Kansas and Idaho. These States have adopted, and EPA has approved, human health and aquatic life water quality criteria that are no less stringent than the Federal Criteria. Therefore, in this final rule, EPA amended the Federal regulations to withdraw certain human health and aquatic life criteria applicable to these States.

California

Date of Rule: May 18, 2000.

Reference: 65 FR 31681.

This final rule promulgated: Numeric aquatic life criteria for 23 priority toxic pollutants; numeric human health criteria for 57 priority toxic pollutants; and a compliance schedule provision which authorizes the State to issue schedules of compliance for new or revised National Pollutant Discharge Elimination System permit limits based on the federal criteria when certain conditions are met.

EPA promulgated this rule based on the Administrator's determination that numeric criteria are necessary in the State of California to protect human health and the environment. The Clean Water Act requires States to adopt numeric water quality criteria for priority toxic pollutants for which EPA has issued criteria guidance, the presence or discharge of which could reasonably be expected to interfere with maintaining designated uses.

EPA promulgated this rule to fill a gap in California water quality standards that was created in 1994 when a State court overturned the State's water quality control plans which contained water quality criteria for priority toxic pollutants. Thus, the State of California was without numeric water quality criteria for many priority toxic pollutants as required by the Clean Water Act, necessitating this action by EPA. These Federal criteria are legally applicable in the State of California for inland surface waters, enclosed bays and estuaries for all purposes and programs under the Clean Water Act.

Dated: May 27, 2001.
Geoffrey H. Grubbs,
Director, Office of Science and Technology.

[FR Doc. 01-13943 Filed 6-1-01; 8:45 am]

BILLING CODE 6560-50-P